DEPARTMENT OF ENERGY

Federal Energy Regulatory Commission

[Docket No. CP01-443-000]

KN Wattenberg Transmission, LLC; Notice of Filing

September 28, 2001.

Take notice that on September 18, 2001, KN Wattenberg Transmission, LLC (KNW), filed a request pursuant to section 385.207 of the Federal Energy Regulatory Commission's (Commission) Regulations for a finding that 58.0 miles of pipeline and 38,932 horsepower of compressors in the Denver-Julesburg Basin production area in northeast Colorado are non-jurisdictional under the Natural Gas Act, as amended, Section 1(b), 15 U.S.C. 717(b)(1994). KNW requests that the Commission issue a declaratory order rescinding its certificate by November 30, 2001. The facilities will be sold to the Kerr-McGee Rocky Mountain Corporation, all as more fully set forth in the request, which is on file with the Commission, and open for public inspection. This filing may be viewed on the web at http://www.ferc.gov using the “RIMS” link, select “Docket #” and follow the instructions (call 202-208-2222 for assistance).

Any questions regarding this filing should be directed to Bud J. Becker, Assistant General Counsel, Kinder Morgan, Inc., P.O. Box 281304, 370 Van Gordon Street, Lakewood, Colorado 80228-8304, call 303-763-3496.

There are two ways to become involved in the Commission's review of this project. First, any person wishing to obtain legal status by becoming a party to the proceedings for this project should, on or before October 18, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Take further notice that pursuant to the authority contained in and subject to the jurisdiction conferred upon the Commission by sections 7 and 15 of the Natural Gas Act and the Commission's Rules of Practice and Procedure, a hearing will be held without further notice before the Commission or its designee on this Application if no petition to intervene is filed within the time required herein, if the Commission on its own review of the matter finds that a grant of the certificate is required by the public convenience and necessity. If a petition for leave to intervene is timely filed, or if the Commission, on its own motion believes that a formal hearing is required, further notice of such hearing will be duly given. Under the procedure herein provided for, unless otherwise advised, it will be unnecessary for Applicant to appear or be represented at the hearing.

Comments, protests and interventions may be filed electronically via the Internet in lieu of paper. See, 18 CFR 385.2001(a)(1)(iii) and the instructions on the Commission's web site under the “e-Filing” link.

Linwood A. Watson, Jr.,
Acting Secretary.

[FR Doc. 01-24890 Filed 10-3-01; 8:45 am]

BILLING CODE 6717-01-P